DEPARTMENT OF ENERGY

Environmental Management (EM) Site-Specific Advisory Board (SSAB), Fernald

AGENCY: Department of Energy.

ACTION: Notice of open meeting.

SUMMARY: This notice announces a meeting of the Environmental Management Site-Specific Advisory Board (EM SSAB), Fernald. Federal Advisory Committee Act (Pub. L. No. 92-463, 86 Stat. 770) requires that public notice of these meetings be announced in the Federal Register.

DATES: Saturday, Sept. 16, 2000: 8 a.m.-4 p.m.

ADDRESSES: The Plantation Restaurant, 9660 Dry Fork Road, Harrison, OH 45036.

FOR FURTHER INFORMATION CONTACT: Victoria Spriggs, Phoenix Environmental, 6186 Old Franconia Road, Alexandria, VA 22310, at (513) 648-6478.

SUPPLEMENTARY INFORMATION: Purpose of the Board: The purpose of the Board is to make recommendations to DOE in the areas of environmental restoration, waste management, and related activities.

Tentative Agenda: This meeting does not have a standard agenda. Although open to the public, it is a retreat session for board members and ex-officios, and is intended as a time for team-building and alignment. Formal board business will not be conducted and recommendations will not be developed during this time.

Public Participation: This retreat meeting is open to the public. This notice is being published less than 15 days before the date of the meeting due to programmatic issues that had to be resolved.

Minutes: The minutes of this meeting will be available for public review and copying at the Freedom of Information Public Reading Room, 1E-190, Forrestal Building, 1000 Independence Avenue, SW, Washington, DC, 20585 between 9 a.m. and 4 p.m., Monday-Friday, except Federal holidays. Minutes will also be available by writing to the Fernald Citizens Advisory Board, c/o Phoenix Environmental Corporation, MS 76, Post Office Box 538704, Cincinnati, Ohio 45253-8704, or by calling the Advisory Board at (513) 648-6478.

Issued at Washington, DC on August 30, 2000.
Rachel Samuel,
Deputy Advisory Committee Management Officer.

[FR Doc. 00-22628 Filed 9-1-00; 8:45 am]

BILLING CODE 6450-01-P